DEPARTMENT OF ENERGY

Federal Energy Regulatory Commission

Combined Notice of Filings #1

Take notice that the Commission received the following electric corporate filings:

Docket Numbers: EC23-71-000.

Applicants: Pixley Solar Energy LLC, Lazbuddie Wind Energy LLC, Flat Ridge 4 Wind, LLC, Flat Ridge 5 Wind Energy LLC, Algodon Solar Energy LLC, Chisholm Trail Solar Energy LLC, Public Service Company of Oklahoma.

Description: Joint Application for Authorization Under Section 203 of the Federal Power Act of Pixley Solar Energy LLC, et al.

Filed Date: 4/6/23.

Accession Number: 20230406-5230.

Comment Date: 5 p.m. ET 6/5/23.

Take notice that the Commission received the following electric rate filings:

Docket Numbers: ER15-1905-012.

Applicants: AZ721 LLC.

Description: Supplement to January 30, 2023, Notice of Change in Status of Amazon Energy LLC.

Filed Date: 4/6/23.

Accession Number: 20230406-5226.

Comment Date: 5 p.m. ET 4/27/23.

Docket Numbers: ER21-2678-005.

Applicants: Westlands Transmission, LLC.

Description: Compliance filing: Amendment of Compliance Filing (ER21-2678-004) to be effective 12/15/2022.

Filed Date: 4/10/23.

Accession Number: 20230410-5113.

Comment Date: 5 p.m. ET 5/1/23.

Docket Numbers: ER21-2678-006.

Applicants: Westlands Transmission, LLC.

Description: Compliance filing: Re-establish OBE'd Versions to Tariff Record ID (ER21-2678-) to be effective 10/13/2021.

Filed Date: 4/11/23.

Accession Number: 20230411-5147.

Comment Date: 5 p.m. ET 5/2/23.

Docket Numbers: ER23-213-001.

Applicants: Duke Energy Florida, LLC, Duke Energy Progress, LLC, Duke Energy Carolinas, LLC.

Description: Compliance filing: Duke Energy Progress, LLC submits tariff filing per 35: Order 676 Compliance Filing to be effective 2/23/2023.

Filed Date: 4/11/23.

Accession Number: 20230411-5171.

Comment Date: 5 p.m. ET 5/2/23.

Docket Numbers: ER23-326-001; ER23-327-001.

Applicants: Arroyo Energy Storage LLC,Arroyo Solar LLC.

Description: Notice of Change in Status of Arroyo Solar LLC, et al.

Filed Date: 4/6/23.

Accession Number: 20230406-5232.

Comment Date: 5 p.m. ET 4/27/23

Docket Numbers: ER23-628-001.

Applicants: Bellflower Solar 1, LLC.

Description: Compliance filing: Revised Rate Schedule to be effective 1/15/2023.

Filed Date: 4/11/23.

Accession Number: 20230411-5175.

Comment Date: 5 p.m. ET 5/2/23.

Docket Numbers: ER23-1022-000.

Applicants: System Energy Resources, Inc.

Description: Unit Power Sales Agreement Formula Rate Informational Filing of System Energy Resources, Inc.

Filed Date: 1/31/23.

Accession Number: 20230131-5319.

Comment Date: 5 p.m. ET 5/11/23.

Docket Numbers: ER23-1511-000; TS23-3-000.

Applicants: Arroyo Solar LLC, Arroyo Solar LLC.

Description: Request for Temporary Waiver of Open-Access Requirements of Order Nos. 888, et al. of Arroyo Solar LLC.

Filed Date: 3/27/23.

Accession Number: 20230327-5270.

Comment Date: 5 p.m. ET 5/2/23.

Docket Numbers: ER23-1605-000.

Applicants: PJM Interconnection, L.L.C.

Description: § 205(d) Rate Filing: Original ISA, Service Agreement No. 6876; Queue No. AC2-141 to be effective 12/31/9998.

Filed Date: 4/10/23.

Accession Number: 20230410-5119.

Comment Date: 5 p.m. ET 5/1/23.

Docket Numbers: ER23-1606-000.

Applicants: NSTAR Electric Company.

Description: Tariff Amendment: Cancellation of Ocean State Power, LLC—Related Facilities Agreement to be effective 4/11/2023.

Filed Date: 4/11/23.

Accession Number: 20230411-5000.

Comment Date: 5 p.m. ET 5/2/23.

Docket Numbers: ER23-1607-000.

Applicants: NSTAR Electric Company.

Description: § 205(d) Rate Filing: Commonwealth Wind, LLC—Design and Engineering Agreement to be effective 4/12/2023.

Filed Date: 4/11/23.

Accession Number: 20230411-5020.

Comment Date: 5 p.m. ET 5/2/23.

Docket Numbers: ER23-1608-000.

Applicants: PJM Interconnection, L.L.C.

Description: § 205(d) Rate Filing: Original ISA, Service Agreement No. 6866; Queue No. AF2-254 to be effective 3/14/2023.

Filed Date: 4/11/23.

Accession Number: 20230411-5028.

Comment Date: 5 p.m. ET 5/2/23.

Docket Numbers: ER23-1609-000.

Applicants: PJM Interconnection, L.L.C.

Description: § 205(d) Rate Filing: Delay Upcoming RPM Auctions, Requests for Waiver and Expedited Action to be effective 6/10/2023.

Filed Date: 4/11/23.

Accession Number: 20230411-5057.

Comment Date: 5 p.m. ET 5/2/23.

Docket Numbers: ER23-1610-000.

Applicants: Duke Energy Carolinas, LLC, Duke Energy Florida, LLC.

Description: § 205(d) Rate Filing: Duke Energy Carolinas, LLC submits tariff filing per 35.13(a)(2)(iii: DEF—Annual Update of Real Power Loss Factors to be effective 5/1/2023.

Filed Date: 4/11/23.

Accession Number: 20230411-5150.

Comment Date: 5 p.m. ET 5/2/23.

Docket Numbers: ER23-1611-000.

Applicants: AEP Ohio Transmission Company, Inc., American Electric Power Service Corporation, Ohio Power Company, PJM Interconnection, L.L.C.

Description: § 205(d) Rate Filing: AEP Ohio Transmission Company, Inc. submits tariff filing per 35.13(a)(2)(iii: AEP submits revised SA No. 1672 ILDSA and Attachment 1 to be effective 5/1/2023.

Filed Date: 4/11/23.

Accession Number: 20230411-5159.

Comment Date: 5 p.m. ET 5/2/23.

Take notice that the Commission received the following electric securities filings:

Docket Numbers: ES23-40-000.

Applicants: DTE Electric Company.

Description: Application Under Section 204 of the Federal Power Act for Authorization to Issue Securities of DTE Electric Company.

Filed Date: 4/6/23.

Accession Number: 20230406-5229.

Comment Date: 5 p.m. ET 4/27/23.

Docket Numbers: ES23-41-000.

Applicants: ISO New England Inc.

Description: Application Under Section 204 of the Federal Power Act for Authorization to Issue Securities of ISO New England Inc.

Filed Date: 4/7/23.

Accession Number: 20230407-5164.

Comment Date: 5 p.m. ET 4/28/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2023.
Debbie-Anne A. Reese,
Deputy Secretary.

[FR Doc. 2023-08038 Filed 4-14-23; 8:45 am]

BILLING CODE 6717-01-P